DEPARTMENT OF COMMERCE

Foreign-Trade Zones Board

Foreign-Trade Zone 147—Berks County, PA; Site Renumbering Notice; Correction

The Federal Register notice (76 FR 1134, 1/7/11) describing the renumbering of sites within Foreign-Trade Zone 147 in Berks County, Pennsylvania, should be as follows:

FTZ 147 currently consists of 19 “sites” totaling 5,038 acres in the Reading area. The current update does not alter the physical boundaries that have previously been approved, but instead involves an administrative renumbering that separates certain non-contiguous sites for record-keeping purposes.

Under this revision, the site list for FTZ 147 will be as follows: Site 1 (865 acres)—Reading Municipal Airport complex; Site 2 (6.64 acres)—Second Street and Grand Street, Hamburg; Site 3 (160.71 acres)—Excelsior Industrial Park, Maiden Creek Township; Site 4 (272.33 acres total)—within the International Trade District of York located at East Berlin and Zarfoss Roads (26.64 acres), at 500 Lincoln Street and 160 & 222 N. Hartley Street (16.69 acres), at the Industrial Plaza of York, Roosevelt Avenue and West Philadelphia Street (1 acre), and at 260 Hidden Lane (228 acres); Site 5 (54.42 acres total)—within the Penn Township Industrial Park located at 762 Wilson Avenue in York (10.55 acres), at 14 Barnhart Drive in York (9.82 acres), at 16 Barnhart Drive in York (2.36 acres), at 26 and 29 Barnhart Drive in Hanover (23.06 acres), and at PTIP Lots 32, 34, 37 and 38 (8.63 acres); Site 7 (155 acres)—Greenspring Industrial Park, 305 Green Springs Road, York County; Site 8 (152 acres)—Fairview Business Park located at McCarthy Drive and Industrial Drive in York County; Site 9 (34 acres)—located at 900 Kriner Road in Chambersburg; Site 10 (1,214 acres)—Cumberland Valley Business Park (formerly Letterkenny Army Depot), 5121A Coffey Avenue, Franklin County; Site 11 (310 acres)—ProLogis Park 81, Interstate 81 and Walnut Bottom Road, Cumberland County; Site 12 (242 acres)—LogistiCenter, Allen Road Extension and Distribution Drive, Carlisle; Site 13 (100 acres total)—within the Capital Business Center in Middletown located at 400 First Street (11 acres), at 401 First Street (33 acres), 400 First Street Expressway (16 acres), at 500 Industrial Lane (8 acres), at 600 Hunter Lane (15 acres), and at 300 Hunter Lane (17 acres); Site 14 (164 acres)—Conewago Industrial Park, 1100 Zeager Road, Elizabethtown; Site 16 (134 acres, sunset 5/31/2014)—Matrix Development Group, 1201 South Antrim Way, Greencastle; Site 17 (256 acres, sunset 5/31/2014)—United Business Park, 7810 Olde Scotland Road, Shippensburg; Site 18 (208 acres, sunset 5/31/2014)—Key Logistics Park, Centerville Road, Newville; Site 19 (292 acres, sunset 5/31/2014)—I-81 Commerce Park, Walnut Bottom Road, Shippensburg; Site 20 (14.5 acres)—GlaxoSmithKline, 105 Willow Springs Lane, York; Site 21 (4.4 acres)—Southern Cross Logistics, Inc., 2800 Concord Road, Suite A, York; Site 22 (214 acres)—Caterpillar Logistics, 600 & 601 Memory Lane, York; Site 23 (9.17 acres)—D&D Distribution Services, 789 Kings Mill Road, York; Site 24 (24 acres)—401 Moulstown Road, Penn Township; Site 25 (1 acre)—633-641 Lowther Road in Lewisberry; and, Site 26 (151 acres total)—two parcels in Guilford Township located at WEN Drive and Guilford Springs Road (121 acres) and at Guilford Springs Road (30 acres). (Note: Site 6 was deleted through an administrative action; and, Site 15 was transferred to another zone project via Board Order 1502.)

For further information, contact Camille Evans at Camille.Evans@trade.gov or (202) 482-2350.

Dated: February 28, 2011.
Elizabeth Whiteman,
Acting Executive Secretary.

[FR Doc. 2011-4956 Filed 3-3-11; 8:45 am]

BILLING CODE 3510-DS-P